DEPARTMENT OF HEALTH AND HUMAN SERVICES

Administration for Children and Families

[OMB No. 0970-0198]

Proposed Information Collection Activity; Comment Request

Proposed Projects:

Title: FY 2020-2022 Child Care and Development Fund Plan for Tribes (ACF-118A)

Description: The Child Care and Development Fund (CCDF) Plan (the Plan) for Tribes is required from each CCDF Lead agency in accordance with Section 658E of the Child Care and Development Block Grant Act of 1990 (CCDBG Act), as amended, CCDBG Act of 2014 (Pub. L. 113-186), and 42 U.S.C 9858. The Plan, submitted on the ACF-118A, is required triennially, and remains in effect for three years. The Plan provides ACF and the public with a description of, and assurance about the States' and Territories' child care programs. These Plans are the applications for CCDF funds.

This Notice is required by the Paperwork Reduction Act (PRA). The PRA requires Federal agencies to request approval from the Office of Management and Budget (OMB) Office of Information and Regulatory Affairs (OIRA) for any information collection that will ask the same question of ten or more persons. The process includes publication of an initial Federal Register Notice (FRN) allowing 60 days for public comments on the initial plan for information collection, the publication of a second FRN allowing 30 days for public comment on the final proposed information collection, and review and approval by the OMB Office of Information and Regulatory Affairs.

The Office of Child Care (OCC) has revised the FY 2020-2022 CCDF Plan Preprint for Tribes to align with the CCDF Final Rule published on September 30, 2016. In making the revisions, consideration was given to minimize the burden of the collection of information on respondents. The revised document contains revisions to improve the accuracy and clarity of policy questions, definitions, and guidance in order to improve the quality of information that is collected.

Consistent with the statute and regulations, ACF requests revisions of the ACF-118A to align with the requirements of the CCDF Final Rule.

Respondents: Tribal CCDF Lead Agencies (260).

Annual Burden Estimates
Instrument | Number of respondents | Number of responses per respondent | Average burden hours per response | Total burden hours
ACF—118A Part I (for all tribes) | 260 | 0.33 | 120 | 15,420
ACF—118A Part II (for medium and large allocation tribes only) | 106 | 0.33 | 144 | 5,037

Estimated Total Annual Burden Hours: 20,457.

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 330 C Street SW, Washington, DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary B. Jones,
ACF/OPRE Certifying Officer.

[FR Doc. 2019-00386 Filed 1-30-19; 8:45 am]

BILLING CODE 4184-81-P